DEPARTMENT OF COMMERCE

National Oceanic and Atmospheric Administration

50 CFR Part 679

[Docket No. 041126332-5039-02; I.D. 112204C]

Fisheries of the Exclusive Economic Zone Off Alaska; Gulf of Alaska; Final 2005 and 2006 Harvest Specifications for Groundfish; Correction

Correction

In rule document 05-4838 beginning on page 12143 in the issue of Friday, March 11, 2005, make the following correction:

On page 12147, Table 13 is corrected in part to read as follows:

Table 13—Final 2006 GOA Non-Exempt American Fisheries Act Catcher Vessel (CV) Groundfish Harvest Sideboard Limitations
(Values are in metric tons)
Species | Apportionments and allocations by area/season/processor/gear | Ratio of 1995-1997 non-exempt AFA CV catch to 1995-1997 TAC | 2006 TAC | 2006 non-exempt AFA catcher vessel sideboard
| * * | * * | * | * *
Northern rockfish | W | 0.0003 | 755 | 0
| C | 0.0336 | 3,995 | 134
Pelagic shelf rockfish | W | 0.0001 | 366 | 0
| C | 0.0000 | 2,973 | 0
| E | 0.0067 | 1,076 | 7
Thornyhead rockfish | W | 0.0308 | 410 | 13
| C | 0.0308 | 1,010 | 31
| E | 0.0308 | 520 | 16
Big skates | W | 0.0090 | 727 | 7
| C | 0.0090 | 2,463 | 22
| E | 0.0090 | 809 | 7
Longnose skates | W | 0.0090 | 66 | 1
| C | 0.0090 | 1,972 | 18
| E | 0.0090 | 780 | 7
Other skates | GW | 0.0090 | 1,327 | 12
Demersal shelf rockfish | SEO | 0.0020 | 410 | 1
| * * | * * | * | * *

* * * * *

[FR Doc. C5-4838 Filed 3-22-05; 8:45 am]

BILLING CODE 1505-01-D